DEPARTMENT OF HEALTH AND HUMAN SERVICES

Centers for Disease Control and Prevention

[30Day-13-12QU]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Impact Evaluation of CDC's Colorectal Cancer Control Program (CRCCP)—New—National Center for Chronic Disease Prevention and Health Promotion (NCCDPHP), Centers for Disease Control and Prevention (CDC).

Background and Brief Description

Colorectal cancer (CRC) is the second leading cause of cancer deaths in the U.S.; however, screening can effectively reduce CRC incidence and mortality. CDC's Colorectal Cancer Control Program (CRCCP) was established to increase population-level screening rates to 80 percent. Currently, 25 states and four tribal organizations receive CDC funds to increase colorectal cancer screening rates. The CRCCP is the first cancer prevention and control program funded by CDC emphasizing both the direct provision of screening services and broader screening promotion. CRCCP grantees are required to establish evidence-based colorectal cancer screening delivery programs for persons 50-64 years of age, focusing on asymptomatic persons at average risk for CRC with low incomes and inadequate or no health insurance coverage for CRC screening. Approximately 33 percent of each grantee award may be used to fund the provision of screening and diagnostic tests. Additional program activities such as patient recruitment, patient navigation, provider education, quality assurance, and data management are also supported under this component of the program.

The CRCCP offers a unique and important opportunity to evaluate the efficacy of this new public health model. CDC plans to conduct an impact evaluation to determine whether CRCCP program activities increase state-level colorectal cancer screening rates and other proximal outcomes. The impact evaluation will use a quasi-experimental, control group design with pre- and post-tests involving a total of six states: three CRCCP grantee states (Alabama, Nebraska, and Washington) represent the intervention programs and three non-CRCCP states (Tennessee, Oklahoma, and Wisconsin) represent the control states.

CDC plans to complete two cycles of information collection over a three-year period. The first information collection will be initiated in 2013 and the second information collection will be initiated in 2015. Three types of information will be collected at each time, including: (1) A general population survey administered by telephone with a state-based, representative, cross-sectional, random sample of adults aged 50-75 (population survey); (2) a mail-back, written, survey of a state-based, representative sample of primary care providers (provider survey); and (3) qualitative case studies of program implementation (case studies) based on interviews with Colorectal Control Program staff, program evaluators, and state and local partners in both grantee and non-grantee states. Information will be collected from each site to identify interviewees and prepare for the site visit.

The general population survey includes questions related to knowledge of and attitudes toward colorectal cancer, history of colorectal cancer screening and intentions for future screening, and barriers to screening. The estimated burden per response is 23 minutes. The provider survey of primary care physicians includes questions related to knowledge of colorectal cancer screening guidelines and screening quality, office systems that support screening, and patterns of referrals to screening. The estimated burden per response is 12 minutes. For the case studies, interview guides will be used to conduct interviews with program staff and stakeholders to gather detailed information about colorectal cancer screening provision and promotion efforts. The estimated burden for each interview is one hour to one hour and 15 minutes. Evaluation staff will also collect information through document review and field observation.

The information to be collected will be used to assess the impact of the CRCCP in improving proximal outcomes (e.g., provider knowledge, population attitudes) and in increasing population-level CRC screening rates. Results of the evaluation will be used to improve program performance, plan future public health programs, and improve efficiencies. OMB approval is requested for three years. The total estimated annualized burden hours are 2,425. There are no costs to respondents other than their time.

Estimated Annualized Burden Hours
Type of respondent | Form Name | Number of respondents | Number of responses per respondent | Average burden per response (in hr)
General Population | Screener for the Colorectal Cancer Population Survey | 9,600 | 1 | 5/60
General Population Eligible Individuals ages 50-75 years | Colorectal Cancer Population Survey | 3,200 | 1 | 23/60
Primary Care Providers | Survey of Primary Care Providers | 1,600 | 1 | 12/60
CRCCP and Non-Grantee Program Director | Suggested Interviewees Form | 4 | 1 | 1
CRCCP and Non-Grantee Program Directors | Site Visit Instructions Template | 4 | 1 | 5
CRCCP Grantee Program Staff | Interview Guide: Grantee Program Staff | 12 | 1 | 75/60
CRCCP Grantee Evaluators | Interview Guide: Grantee Program Evaluator | 4 | 1 | 1
CRCCP State and Local Sector Partners | Interview Guide: Grantee Partner | 4 | 1 | 1
CRCCP Private Sector Partners | Interview Guide: Grantee Partner | 4 | 1 | 1
Non-Grantee Program Staff | Interview Guide: Non-grantee Program Staff | 12 | 1 | 75/60
Non-Grantee Evaluator | Interview Guide: Non-grantee Program Evaluator | 4 | 1 | 1
Non-grantee State and Local Partners | Interview Guide: Non-grantee Partner | 4 | 1 | 1
Non-grantee Private Sector Partners | Interview Guide: Non-grantee Partner | 4 | 1 | 1

Leroy A. Richardson,
Chief, Information Collection Review Office, Office of Scientific Integrity, Office of the Associate Director for Science, Office of the Director, Centers for Disease Control and Prevention.

[FR Doc. 2013-17957 Filed 7-25-13; 8:45 am]

BILLING CODE 4163-18-P